DEPARTMENT OF LABOR

Employment and Training Administration

[NAFTA-4020]

Thomson Consumer Electronics, Incorporated, A.T.O. Division, Dunmore, PA; Notice of Negative Determination on Reconsideration

On October 17, 2000, the Department issued an Affirmative Determination Regarding Application for Reconsideration for the workers and former workers of the subject firm. The notice will soon be published in the Federal Register.

The Department initially denied NAFTA to workers of Thomson Consumer Electronics, Incorporated, A.T.O. Division, Dunmore, PA because the “contributed importantly” group eligibility requirement of section 222(3) of the Trade Act of 1974, as amended, was not met. The workers at the subject firm were engaged in employment related to the production of color television picture tubes.

The petitioner presented evidence that the Department's survey of the company's customer was incomplete.

On reconsideration, the Department requested that the subject firm provide additional information concerning declining customers. Upon examination of those customers, it was discovered that the customers were located in Mexico. Those customers were the reason for the declines in sales, production and employment at the subject plant. Company sales of color television picture tubes to the domestic market did not decline during the relevant period.

Conclusion

After reconsideration, I affirm the original notice of negative determination of eligibility to apply for worker adjustment assistance for workers and former workers of Thomson Consumer Electronics, Incorporated, A.T.O. Division, Dunmore, Pennsylvania.

Signed at Washington, DC, this 4th day of December, 2000.
Linda G. Poole,
Certifying Officer, Division of Trade Adjustment Assistance.

[FR Doc. 00-31819 Filed 12-13-00; 8:45 am]

BILLING CODE 4510-30-M